DEPARTMENT OF COMMERCE

International Trade Administration

[A-570-827]

Certain Cased Pencils From the People's Republic of China: Final Results of Antidumping Duty Administrative Review; 2012-2013

AGENCY: Enforcement and Compliance, International Trade Administration, Department of Commerce.

SUMMARY: On December 31, 2014, the Department of Commerce (the Department) published the preliminary results and partial rescission of the administrative review of the antidumping duty order on certain cased pencils (pencils) from the People's Republic of China (PRC). We gave interested parties an opportunity to comment on the preliminary results in a notice. The period of review (POR) is December 1, 2012, through November 30, 2013. This review covers one exporter of subject merchandise, Shandong Rongxin Import & Export Co., Ltd. (Rongxin). For the final results, we continue to find that Rongxin is not eligible for a separate rate, and, thus, remains part of the PRC-wide entity.

DATES: Effective: May 11, 2015.

FOR FURTHER INFORMATION CONTACT: Mary Kolberg or Sergio Balbontin, AD/CVD Operations, Office I, Enforcement and Compliance, International Trade Administration, Department of Commerce, 14th Street and Constitution Avenue NW., Washington, DC 20230; telephone: (202) 482-1785, (202) 482-6478, respectively.

SUPPLEMENTARY INFORMATION:

Background

On December 31, 2014, the Department published the preliminary results and partial rescission of the administrative review of the antidumping duty order on pencils from the PRC.¹ Between February 2, 2015, and February 4, 2015, we received a case brief and a rebuttal brief with respect to the Preliminary Results. We conducted this administrative review in accordance with section 751 of the Tariff Act of 1930, as amended (the Act).

¹ See Certain Cased Pencils From the People's Republic of China: Preliminary Results of Antidumping Duty Administrative Review and Partial Rescission; 2012-2013, 79 FR 78795 (December 31, 2014) (Preliminary Results). Based on the timely withdrawal of the request for review of Orient International Holding Shanghai Foreign Trade Co., Ltd. (SFTC), we rescinded the review of SFTC. In the Preliminary Results, the Department inadvertently omitted “Orient International Holding” in referencing SFTC's full company name.

Scope of the Order

The merchandise subject to the order includes pencils from the PRC. The subject merchandise is currently classifiable under Harmonized Tariff Schedule of the United States (HTSUS) subheading 9609.1010. Although the HTSUS subheadings are provided for convenience and customs purposes, the written product description is dispositive. A full description of the scope of the order is contained in the Issues and Decision Memorandum, dated concurrently with and hereby adopted by this notice.²

² See Memorandum “Issues and Decision Memorandum for the Final Results of Antidumping Duty Administrative Review: Certain Cased Pencils from the People's Republic of China; 2012-2013” dated concurrently with and hereby adopted by this notice (Issues and Decision Memorandum).

Analysis of Comments Received

All issues raised in the case and rebuttal briefs filed by parties to this administrative review are addressed in the Issues and Decision Memorandum. A list of the issues raised is attached to this notice as an appendix. The Issues and Decision Memorandum is a public document and is on file electronically via Enforcement and Compliance's Antidumping and Countervailing Duty Centralized Electronic Service System (ACCESS). ACCESS is available to registered users at http://access.trade.gov. The Issues and Decision Memorandum is also available to all parties in the Central Records Unit, Room 7046 of the main Department of Commerce building. In addition, a complete version of the Issues and Decision Memorandum can be accessed directly on the Enforcement and Compliance Web site at http://enforcement.trade.gov/frn. The signed and electronic versions of the Issues and Decision Memorandum are identical in content.

Changes Since the Preliminary Results

The Department conducted this review in accordance with section 751(a)(1)(B) of the Act. Based on our analysis of the comments received, we did not make any revisions to the Preliminary Results. For a full description of the analysis underlying our conclusions, see the Issues and Decision Memorandum.

PRC-Wide Rate and PRC-Wide Entity

For the Preliminary Results, the Department assigned to the PRC-wide entity the rate of 114.90 percent.³ Because this rate is the same as the PRC-wide rate from previous segments of this proceeding and nothing on the record of this review calls into question the reliability of the PRC-wide rate, we find it appropriate to continue to apply the rate of 114.90 percent to the PRC-wide entity.

³ See Notice of Amended Final Results and Partial Rescission of Antidumping Duty Administrative Review: Certain Cased Pencils from the People's Republic of China, 67 FR 59049 (September 19, 2002).

In the Preliminary Results, the Department determined that Rongxin was not eligible for a separate rate and, therefore, Rongxin is part of the PRC-wide entity. After reviewing the issues raised in the case and rebuttal briefs from interested parties, the Department continues to find Rongxin ineligible for a separate rate. Thus, we continue to treat Rongxin as part of the PRC-wide entity.⁴

⁴ The Department's change in policy regarding conditional review of the PRC-wide entity is not applicable to this administrative review. See Antidumping Proceedings: Announcement of Change in Department Practice for Respondent Selection in Antidumping Duty Proceedings and Conditional Review of the Nonmarket Economy Entity in NME Antidumping Duty Proceedings, 78 FR 65963, 65970 (November 4, 2013).

Final Results of the Review

As a result of this administrative review, we determine that the following weighted-average dumping margins exist: ⁵

⁵ As noted, Rongxin is not eligible for a separate rate.

Exporter | Weighted- average dumping margin (percent)
PRC-Wide Entity * | 114.90
* Includes Shandong Rongxin Import & Export Co., Ltd.

Assessment

Pursuant to section 751(a)(2)(A) of the Act and 19 CFR 351.212(b), the Department shall determine, and U.S. Customs and Border Protection (CBP) shall assess, antidumping duties on all appropriate entries covered by this review in accordance with the final results of this review.

The Department announced a refinement to its assessment practice in non-market economy country antidumping proceedings.⁶ Pursuant to this refinement in practice, for entries that were not reported in the U.S. sales databases submitted by companies individually examined during this review, the Department will instruct CBP to liquidate such entries at the PRC-wide rate. In addition, for companies where the Department determined that the exporter under review had no shipments of the subject merchandise, any suspended entries that entered under that exporter's case number (i.e., at that exporter's rate) will be liquidated at the PRC-wide rate.⁷

⁶ See Non-Market Economy Antidumping Proceedings: Assessment of Antidumping Duties, 76 FR 65694 (October 24, 2011) (Assessment Practice Refinement).

⁷ For a full discussion of this practice, see Assessment Practice Refinement.

We intend to issue assessment instructions to CBP 15 days after the date of publication of the final results of review.

Cash Deposit Requirements

The following cash deposit requirements will be effective upon publication of these final results of review for all shipments of the subject merchandise from the PRC entered, or withdrawn from warehouse, for consumption on or after the publication date as provided by section 751(a)(2)(C) of the Act: (1) For previously investigated or reviewed PRC and non-PRC exporters not listed above that received a separate rate in a prior segment of this proceeding, the cash deposit rate will continue to be the exporter-specific rate; (2) for all PRC exporters of subject merchandise that have not been found to be entitled to a separate rate, the cash deposit rate will be that for the PRC-wide entity of 114.90 percent; (3) for all non-PRC exporters of subject merchandise which have not received their own rate, the cash deposit rate will be the rate applicable to the PRC exporter that supplied that non-PRC exporter. These deposit requirements shall remain in effect until further notice.

Notification

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Order

This notice also serves as the only reminder to parties subject to administrative protective order (APO) of their responsibility concerning the return or destruction of proprietary information disclosed under APO in accordance with 19 CFR 351.305. Timely written notification of the return or destruction of APO materials or conversion to judicial protective order is hereby requested. Failure to comply with the regulations and terms of an APO is a sanctionable violation.

These final results of review are issued and published in accordance with sections 751(a)(1) and 777(i) of the Act and 19 CFR 351.213.

Dated: April 30, 2015.
Paul Piquado,
Assistant Secretary for Enforcement and Compliance.

Appendix I

List of Topics Discussed in the Issues and Decision Memorandum

1. Summary

2. Background

3. Scope of the Order

4. Separate Rate/PRC-Wide Entity

5. Discussion of the Issues

Comment 1: Whether Rongxin is Entitled to a Separate Rate

Comment 2: Whether Dixon is a U.S. Manufacturer of Subject Merchandise, and, therefore, Entitled to Request an Administrative Review of Rongxin

6. Recommendation

[FR Doc. 2015-10622 Filed 5-8-15; 8:45 am]

BILLING CODE 3510-DS-P